DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on a proposed new collection of information (1024-xxxx).

DATES: Public comments on the proposed Information Collection Request (ICR) will be accepted on or before March 31, 2008.

ADDRESSES: Send Comments To: Angela Walters, Appalachian National Scenic Trail (ANST), NPS, P.O. Box 50, Harpers Ferry, WV 25425; or via phone at 304/535-6278; or via fax at 304/535-6270, or via e-mail at angela_walters@nps.gov. Also, you may send comments to Leonard E. Stowe, NPS Information Collection Clearance Officer, 1849 C St., NW. (2605), Washington, DC 20240; or by e-mail at leonard_stowe@nps.gov. All responses to this notice will be summarized and included in the request for the Office of Management and Budget (OMB) approval. All comments will become a matter of public record.

To Request a Draft of Proposed Collection of Information Contact: Angela Walters, ANST, NPS, P.O. Box 50, Harpers Ferry, WV 25425; or via phone at 304/535-6278; or via fax at 304/535-6270; or via e-mail at angela_walters@nps.gov.

FOR FURTHER INFORMATION CONTACT: Dr. James Gramann, NPS Social Science Program, 1201 “Eye” St., Washington, DC 20005; or via phone at 202/513-7189; or via e-mail at James_Gramann@partner.nps.gov. You are entitled to a copy of the entire ICR package free of charge.

SUPPLEMENTARY INFORMATION:

Title: Appalachian Train Management Partner Survey.

Bureau Form Number: None.

OMB Number: To be requested.

Expiration Date: To be requested.

Type of Request: New Collection.

Description of Need: The National Park Service Act of 1916, 38 Stat 535, 16 U.S.C. 1, et seq., requires that the NPS preserve national parks for the use and enjoyment of present and future generations. The Appalachian National Scenic Trail (ANST) is an unusual unit of the national park system, managed through a decentralized volunteer-based cooperative management system involving eight national forests, six other national park units, agencies in fourteen states, the Appalachian Trail Conservancy, and citizen volunteers in 30 affiliated trail club organizations. The Government Performance and Results Act (GPRA) of 1993 (Pub. L. 103-62) requires that the NPS develop goals and measure performance related to these goals. The Appalachian Trail Management Partner Survey (ATMPS) measures performance toward those goals through a partner satisfaction survey. The project is an element of the NPS Strategic Plan and the Department of the Interior (DOI) Strategic Plan.

The purpose of the ATMPS is to track the satisfaction of federal, state, and not-for-profit partner organizations and agencies receiving support from the Appalachian Trail Park Office (ATPO) provides support to State and Federal agencies, and not-for-profit organizations to assist them in fulfilling shared and delegated management activities in the management of the ANST. Achievement of on-the-ground results depends on the actions of these partner agencies and organizations. Progress towards management goals is measured by a satisfaction survey where key partners evaluate quality of support provided by ATPO. This effort is required by GPRA and other NPS and DOI strategic planning efforts. Data from the proposed survey is needed to assess performance regarding NPS GPRA goal IIb0. HPS performance on all goals measured in this study will contribute to DOI Department-wide performance reports.

Automated data collection: This information will be collected via mail-back surveys. No automated data collection will take place.

Description of respondents: Partners in the Appalachian Trail Cooperative Management System.

Estimated average number of respondents: 200 (150 respondents and 50 non-respondents).

Estimated average number of responses: 200 (150 respondents and 50 non-respondents).

Estimated average burden hours per response: 1 minute for non-respondents and 3 minutes for respondents.

Frequency of Response: 1 time of respondent.

Estimated annual reporting burden: 23 hours.

Comments are invited on: (1) The practical utility of the information being gathered; (2) the accuracy of the burden hour estimate; (3) ways to enhance the quality, utility, and clarity of the information to be collected; and (4) ways to minimize the burden to respondents, including use of automated information collection techniques or other forms of technology. Before including your address, phone number, e-mail address, or other personal identifying information in your comment, you should be aware that your entire comment—including your personal identifying information—may be made publicly available at any time. While you can ask us in your comment to withhold your personal identifying information from public review, we cannot guarantee that we will be able to do so.

Dated: January 25, 2008.
Leonard E. Stowe,
NPS, Information Collection Clearance Officer.

[FR Doc. 08-405 Filed 1-29-08; 8:45 am]

BILLING CODE 4312-JR-M